DEPARTMENT OF THE INTERIOR

Bureau of Land Management

[UTU 79768]

Notice of Proposed Withdrawal and Notice of Public Meeting; Utah

AGENCY: Bureau of Land Management, Interior.

ACTION: Notice.

SUMMARY: The Department of the Interior, Central Utah Project Completion Act Office, proposes to withdraw, for a term of 20 years, approximately 6,450 acres of National Forest System lands to protect the Utah Lake and the Diamond Fork Systems. This notice segregates the lands for up to 2 years from location and entry under the United States mining laws. The lands will remain open to all other uses which may by law be made of National Forest System lands. This notice also announces a public meeting.

DATES: Comments should be received on or before January 20, 2005. A public meeting is scheduled for December 1, 2004.

ADDRESSES: Comments should be sent to the Program Director, Central Utah Project (CUP) Completion Act Office, 302 East 1860 South, Provo, Utah 84606-7317.

FOR FURTHER INFORMATION CONTACT: Reed Murray, CUP Completion Act Office, 801-379-1237.

SUPPLEMENTARY INFORMATION: The Department of the Interior, Central Utah Project Completion Act Office, has filed an application to withdraw, pursuant to section 204 of the Federal Land Policy and Management Act of 1976, 43 U.S.C. 1714, the following described National Forest System lands from location and entry under the United States mining laws, for a period of 20 years, subject to valid existing rights:

Salt Lake Meridian

Unita National Forest

T. 7 S., R. 3 E.,

Sec. 21, SW¼NE¼SW¼.

T. 9 S., R. 3 E.,

Sec. 1, S½SW¼;

Sec. 2, SW¼NE¼ and NE¼NW¼.

T. 9 S., R. 4 E.,

Sec. 18, NE¼NE¼.

T. 8 S., R. 5 E.,

Sec. 2, lots 9, 10, 15 and 16, NE¼SE¼, and W½SE¼;

Sec. 11, W½E½;

Sec. 14, W½NE¼ and NW¼SE¼;

Sec. 22, SE¼SE¼;

Sec. 28, E½SE¼ and SW¼SE¼.

T. 9 S., R. 5 E.,

Sec. 25, NE¼NE¼ and S½S½;

Sec. 35, E½;

Sec. 36.

T. 10 S., R. 5 E.,

Sec. 2, lots 1 and 2.

T. 8 S., R. 6 E.,

Sec. 32, E½ and E½W½.

T. 9 S., R. 6 E.,

Sec. 5, lot 4 and SW¼;

Sec. 6, lots 1 and 2, and SE¼;

Sec. 7, E½;

Sec. 8, W½;

Sec. 17, W½;

Sec. 18, E½;

Sec. 19, lots 5 to 8, inclusive, lots 10, 11, and 12, E½, and E½W½;

Sec. 20, NW¼NW¼;

Sec. 30;

Sec. 31, lots 1 to10, inclusive, and NE¼NW¼.

The areas described aggregate approximately 6,450 acres in Utah County.

The purpose of the proposed withdrawal is to protect the Federal investment in the proposed Utah Lake and the Diamond Fork Systems, Bonneville Unit of the Central Utah Project.

Discretionary land use authorizations may be allowed during the segregative period, but only with the approval of an authorized office of the Forest Service and with the concurrence of an authorized officer of the Department of the Interior.

The use of a right-of-way or an interagency agreement is not considered to be a desirable or acceptable alternative.

There are no other sites where the systems could be economically constructed.

No water rights will be needed to fulfill the purpose of the requested withdrawal.

All persons who wish to submit comments, suggestions, or objections in connection with the proposed withdrawal may present their views in writing, by the date specified above, to the Program Director, CUP Completion Act Office.

Comments, including names and street addresses of respondents, will be available for public review at the CUP Completion Act Office, 302 East 1860 South, Provo, Utah 84606-7317, during regular business hours, 7:30 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that a public meeting will be held to provide an opportunity for public comment regarding the proposed withdrawal. The meeting will be held at 7 p.m. on Wednesday, December 1, 2004, at the CUP Completion Act Office, 302 East 1860 South, Provo, Utah.

The application will be processed in accordance with the regulations set forth in 43 CFR 2300.

For a period of 2 years from October 22, 2004, in accordance with 43 CFR 2310.2(a), the lands will be segregated from location and entry under the United States mining laws, unless the application is denied or canceled or the withdrawal is approved prior to that date.

(Authority: 43 U.S.C. 1714(b)(1); 43 CFR 2310.3-1(a))

Dated: October 12, 2004.
Kent Hoffman,
Deputy State Director, Division of Land and Minerals.

[FR Doc. 04-23683 Filed 10-21-04; 8:45 am]

BILLING CODE 4310-RK-P